DEPARTMENT OF EDUCATION

[Docket No.: ED-2025-SCC-0845]

Agency Information Collection Activities; Comment Request; DC School Choice Incentive Program; Withdrawal

AGENCY: Office of the Chief Data Officer (OCDO), Office of Planning, Evaluation and Policy Development (OPEPD), Department of Education (ED).

ACTION: Notice, withdrawal.

SUMMARY: The Department of Education published a collection of information notice in the Federal Register on December 5, 2025, that contained errors. With this notice, we are withdrawing the notice (90 FR 56138). A new 60-day Federal Register Notice is also being published in this issue of the Federal Register to replace the incorrect notice.

FOR FURTHER INFORMATION CONTACT: Ross Santy, Chief Data Officer, at ross.santy@ed.gov or (202) 245-7384.

SUPPLEMENTARY INFORMATION: The Federal Register Notices published for DC School Choice Incentive Program included incorrect information. The incorrect 60-day Federal Register Notice (90 FR 56138) was published on December 5, 2025. A new 60-day Federal Register Notice is also being published in this issue of the Federal Register to replace the incorrect notice.

Ross Santy,
Chief Data Officer, Office of Planning, Evaluation and Policy Development.

[FR Doc. 2025-22432 Filed 12-9-25; 8:45 am]

BILLING CODE 4000-01-P